DEPARTMENT OF STATE

[Public Notice 10413]

E.O. 13224 Designation of Adnan Abu Walid al-Sahrawi, aka Abu Walid al Sahrawi, aka Adnan Abu Walid al-Sahraoui, aka Adnan Abu Waleed al-Sahrawi, aka Lehbib Ould Ali Ould Said Ould Joumani, as a Specially Designated Global Terrorist

Acting under the authority of and in accordance with section 1(b) of Executive Order 13224 of September 23, 2001, as amended by Executive Order 13268 of July 2, 2002, and Executive Order 13284 of January 23, 2003, I hereby determine that the person known as Adnan Abu Walid al-Sahrawi, also known as Abu Walid al Sahrawi, also known as Adnan Abu Walid al-Sahraoui, also known as Adnan Abu Waleed al-Sahrawi, also known as Lehbib Ould Ali Ould Said Ould Joumani, committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

John J. Sullivan,
Deputy Secretary of State.

[FR Doc. 2018-11011 Filed 5-22-18; 8:45 am]

BILLING CODE 4710-AD-P